DEPARTMENT OF TRANSPORTATION

Federal Aviation Administration

14 CFR Part 71

[Docket No. FAA 2002-13362; Airspace Docket No. 02-ASO-7]

RIN 2120-AA66

Revision of VOR Federal Airways and Jet Routes in the Vicinity of Savannah, GA

AGENCY: Federal Aviation Administration (FAA), DOT.

ACTION: Final rule; correction.

SUMMARY: This action corrects a final rule published in the Federal Register on May 15, 2003. Due to an error in rounding decimal places, the legal description of Federal Airway V-437 inadvertently contained an incorrect radial. This action corrects that error.

EFFECTIVE DATE: June 13, 2003.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION: On May 15, 2003, Docket No. FAA 2002-13362; Airspace Docket No. 02-ASO-7, FR Doc. 03-12049, was published revising seven VOR Federal airways and four jet routes in the vicinity of Savannah, GA. The legal description of Federal Airway V-437 contained an incorrect radial from the Savannah VORTAC. Due to an error in rounding decimal places, the affected radial was published as the “Savannah 053°” radial instead of the correct value which is the “Savannah 054°” radial. This action corrects that error by inserting the correct radial in the legal description.

Correction to Final Rule

Accordingly, pursuant to the authority delegated to me, the legal description for V-437 as published in the Federal Register on May 15, 2003 (68 FR 26202); FR Doc. 03-12049, and incorporated by reference in 14 CFR 71.1, is corrected as follows:

§ 71.1 [Corrected]

On page 26204 in the first column, correct the legal description of V-437 to read as follows:

Paragraph 6010(a)—Domestic VOR Federal Airways

* * * * *

V-437 [Corrected]

From Dolphin, FL; INT Dolphin 354° and Pahokee, FL, 157° radials; Pahokee; Melbourne, FL; INT Melbourne 322° and Ormond Beach, FL, 211° radials; Ormond Beach; INT Ormond Beach 360° and Savannah, GA, 177° radials; Savannah; INT Savannah 054° and Charleston, SC, 231° radials; Charleston; to Florence, SC. The airspace within R-2935 is excluded.

* * * * *

Issued in Washington, DC, on June 9, 2003.
Reginald C. Matthews,
Manager, Airspace and Rules Division.

[FR Doc. 03-14996 Filed 6-12-03; 8:45 am]

BILLING CODE 4910-13-P